DEPARTMENT OF HOMELAND SECURITY

U.S. Citizenship and Immigration Services

[OMB Control Number 1615-NEW]

Agency Information Collection Activities; New Collection: Petition for Nonimmigrant Worker: H-2A Classification and Petition for Nonimmigrant Worker: H-2B Classification

AGENCY: U.S. Citizenship and Immigration Services, Department of Homeland Security.

ACTION: 60-Day notice.

SUMMARY: The Department of Homeland Security (DHS), U.S. Citizenship and Immigration Services (USCIS) invites the general public and other Federal agencies to comment upon this proposed new collection of information. In accordance with the Paperwork Reduction Act (PRA) of 1995, the information collection notice is published in the Federal Register to obtain comments regarding the nature of the information collection, the categories of respondents, the estimated burden (i.e., the time, effort, and resources used by the respondents to respond), the estimated cost to the respondent, and the actual information collection instruments.

DATES: Comments are encouraged and will be accepted for 60 days until October 18, 2021.

ADDRESSES: All submissions received must include the OMB Control Number 1615-NEW in the body of the letter, the agency name and Docket ID USCIS-2021-0017. Submit comments via the Federal eRulemaking Portal website at https://www.regulations.gov under e-Docket ID number USCIS-2021-0017.

FOR FURTHER INFORMATION CONTACT: USCIS, Office of Policy and Strategy, Regulatory Coordination Division, Samantha Deshommes, Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Comments

USCIS is separating Form I-129, Petition for Nonimmigrant Worker, (OMB control number 1615-0009) into several individual forms. These new forms will combine information from the main Form I-129 with information from the current Supplements to create unique forms tailored to specific nonimmigrant classifications. USCIS believes separating the current Form I-129 into several individual forms will consolidate and simplify the information collection requirements for respondents.

USCIS is creating Form I-129H2A, Petition for Nonimmigrant Worker: H-2A Classification, and Form I-129H2B, Petition for Nonimmigrant Worker: H-2B Classification.

Form I-129H2A will collect information for the H-2A nonimmigrant program. The H-2A program allows U.S. employers or U.S. agents who meet specific regulatory requirements to bring noncitizens to the United States to fill temporary agricultural jobs.

Form I-129H2B will collect information for the H-2B nonimmigrant program. The H-2B program allows U.S. employers or U.S. agents who meet specific regulatory requirements to bring noncitizens to the United States to fill temporary nonagricultural jobs.

USCIS will request approval of Form I-129H2A and Form I-129H2B from OMB as a new information collection. USCIS previously submitted these forms to OMB for approval during the 2020 USCIS Fee Rule; however, this rule was enjoined and therefore the approval is not in effect. USCIS has determined that the creation of this new information collection does not require rulemaking and is therefore proceeding to seek public comments on Form I-129H2A and Form I-129H2B via a notice of information collection published in the Federal Register in accordance with the Paperwork Reduction Act, 44 U.S.C. 3501-3521.

You may access the information collection instrument with instructions or additional information by visiting the Federal eRulemaking Portal site at: https://www.regulations.gov and entering USCIS-2021-0017 in the search box. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Petition for a Nonimmigrant Worker: H-2A Classification and Petition for a Nonimmigrant Worker: H-2B Classification.

(3) Agency form number, if any, and the applicable component of the DHS sponsoring the collection: I-129H2A; I-129H2B; USCIS.

(4) Affected public who will be asked or required to respond, as well as a brief abstract: Primary: Business or other for-profit. USCIS will use the data collected on Form I-129H2A to determine eligibility for the requested H-2A nonimmigrant petition and/or requests to extend or change nonimmigrant status. An employer or agent uses this form to petition USCIS for a noncitizen to temporarily enter as an H-2A nonimmigrant. An employer or agent also uses this form to request an extension of stay or change of status on behalf of the noncitizen worker.

USCIS will use the data collected on Form I-129H2B to determine eligibility for the requested H-2B nonimmigrant petition and/or requests to extend or change nonimmigrant status. An employer or agent uses this form to petition USCIS for a noncitizen to temporarily enter as an H-2B nonimmigrant. An employer or agent also uses this form to request an extension of stay or change of status on behalf of the noncitizen worker.

Both forms serve the purpose of standardizing requests for nonimmigrant workers in the H-2A and H-2B classifications and ensuring that basic information required for assessing eligibility is provided by the petitioner. They also assist USCIS in compiling information required by Congress annually to assess effectiveness and utilization of certain nonimmigrant classifications.

(5) An estimate of the total number of respondents and the amount of time estimated for an average respondent to respond: The estimated total number of respondents for the information collection Form I-129H2A is 12,008 and the estimated hour burden per response is 3 hours; the estimated total number of respondents for the information collection Form I-129H2A Named Worker Attachment is 2,740 with 24 responses per respondent and the estimated hour burden per response is 0.5 hours; the estimated total number of respondents for the information collection Form I-129H2A Joint Employer Supplement is 5,000 and the estimated hour burden per response is 0.167 hours; the estimated total number of respondents for the information collection Form I-129H2B is 6,340 and the estimated hour burden per response is 3 hours; the estimated total number of respondents for the information collection Form I-129H2B Named Worker Attachment is 2,421 with 24 responses per respondent and the estimated hour burden per response is 0.5 hours.

(6) An estimate of the total public burden (in hours) associated with the collection: The total estimated annual hour burden associated with this collection is 117,811 hours.

(7) An estimate of the total public burden (in cost) associated with the collection: The estimated total annual cost burden associated with this collection of information is $12,024,220.

Dated: August 13, 2021
Samantha L Deshommes,
Chief, Regulatory Coordination Division, Office of Policy and Strategy, U.S. Citizenship and Immigration Services, Department of Homeland Security.

[FR Doc. 2021-17723 Filed 8-17-21; 8:45 am]

BILLING CODE 9111-97-P